DEPARTMENT OF ENERGY

Office of Science; High Energy Physics Advisory Panel Renewal

AGENCY: Department of Energy.

ACTION: Notice of renewal.

SUMMARY: Pursuant to Section 14(a)(2)(A) of the Federal Advisory Committee Act, App. 2, and section 101-6.1015(a)(1), title 41, Code of Federal Regulations and following consultation with the Committee Management Secretariat, General Services Administration, notice is hereby given that the High Energy Physics Advisory Panel has been renewed for a two-year period, and joint ownership has been instituted for the Department of Energy and National Science Foundation (NSF) beginning in January 2001.

FOR FURTHER INFORMATION CONTACT: Ms. Rachel M. Samuel at (202) 586-3279.

SUPPLEMENTARY INFORMATION: The Panel will provide advice to the Director of the Office of Science (DOE), and the Assistant Director, Mathematical & Physical Sciences Directorate (NSE), on long-range planning and priorities in the national high-energy physics program. The Secretary of Energy and Director of the National Science Foundation have determined that renewal of the Panel is essential to conduct business of the Department of Energy and the National Science Foundation and is in the public interest in connection with the performance of duties imposed by law upon the Department of Energy and the National Science Foundation. The Panel will continue to operate in accordance with the provisions of the Federal Advisory Committee Act (Pub. L. No. 92-463), the General Services Administration Final Rule on Federal Advisory Committee Management, and other directives and instructions issued in implementation of those acts.

Issued in Washington DC on January 16, 2001.
James N. Solit,
Advisory Committee Management Officer.

[FR Doc. 01-1693 Filed 1-19-01; 8:45 am]

BILLING CODE 6450-01-P